DEPARTMENT OF HEALTH AND HUMAN SERVICES

Administration for Children and Families

Proposed Information Collection Activity; Serious Medical Procedure Request (SMR) Form (Office of Management and Budget #: 0970-0561)

AGENCY: Office of Refugee Resettlement, Administration for Children and Families, U.S. Department of Health and Human Services.

ACTION: Request for public comments.

SUMMARY: The Administration for Children and Families' (ACF) Office of Refugee Resettlement is requesting a 3-year extension of the Serious Medical Procedure Request (SMR) Form (Office of Management and Budget #0970-0561, expiration February 29, 2024). Revisions are proposed to the currently approved form.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: ACF's ORR places unaccompanied children in their custody in care provider programs until unification with a qualified sponsor. Care provider programs are required to provide children with a range of services including medical, dental, and mental healthcare. Children identified as having a serious medical or dental condition may require a procedure while in ORR custody to maintain and promote their health and wellbeing. Procedures requiring general anesthesia, surgeries, and invasive diagnostic procedures (e.g., cardiac catheterization, invasive biopsy, amniocentesis) require advance ORR approval. Before ORR can approve, data must be collected on the SMR form and submitted to ORR by the care provider program (e.g., care provider program's contact information, child demographics, authorized consenter, unification status) and the lead surgeon (e.g., reason for the procedure, potential risks/complications/adverse outcomes if the procedure is not performed, timing, recovery timeframe, planned follow-up procedures, hospital points of contact). ORR will waive the completion of the SMR form if it is deemed to be in the best interest of the child (e.g., during a hospitalization or emergency department visit, related to a medical emergency).

The form is used as a worksheet for care provider program staff and surgeons to compile information that would otherwise have been collected during the health evaluation. Once completed, care provider program staff upload the form and supporting documentation into ORR's secure, electronic data record system and send an email notification to ORR staff that the SMR packet is ready for review.

ORR has incorporated changes to the form to streamline the flow of data collection, clarify intent and purpose of the form and fields, improve data quality, and ensure alignment with ORR program policies. The overall estimated time per form has increased by 1 minute and has been adjusted to reflect a decrease by 1 minute for care provider program staff and an increase by 2 minutes for surgeons.

Respondents: Care provider program staff, surgeons.

Annual Burden Estimates

There are currently about 250 programs that use the SMR form. Over the past 2 years, an annual average of 115 SMR forms were submitted across all programs. For each form, a care provider program staff member completes page 1, and a surgeon completes pages 2 and 3.

Estimated Reporting Time for Respondents
Instrument | Respondent | Total number of respondents | Total number of responses per respondent | Average burden hours per response | Total burden hours | Annual burden hours
SMR Form | Care Provider Program Staff | 250 | 1.38 | .07 | 24.15 | 8
| Surgeons | 250 | 1.38 | .17 | 58.65 | 20
Total Annual Burden Estimate |  |  |  |  |  | 28

Estimated Recordkeeping Time
Instrument | Respondent | Total number of respondents | Total number of responses per respondent | Average burden hours per response | Total burden hours | Annual burden hours
SMR Form | Care Provider Program Staff | 250 | 1.38 | .08 | 27.6 | 9

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 6 U.S.C 279: Exhibit 1, part A.2 of the Flores Settlement Agreement (Jenny Lisette Flores, et al., v. Janet Reno, Attorney General of the United States, et al., Case No. CV 85-4544-RJK [C.D. Cal. 1996])

Mary B. Jones,
ACF/OPRE Certifying Officer.

[FR Doc. 2023-19795 Filed 9-12-23; 8:45 am]

BILLING CODE 4184-45-P